DEPARTMENT OF LABOR

Office of the Secretary

Agency Information Collection Activities; Submission for OMB Review; Comment Request; Permit-Required Confined Spaces in General Industry Standard

ACTION: Notice.

SUMMARY: On June 30, 2015, the Department of Labor (DOL) will submit the Occupational Safety and Health Administration (OSHA) sponsored information collection request (ICR) titled, “Permit-Required Confined Spaces in General Industry Standard,” to the Office of Management and Budget (OMB) for review and approval for continued use, without change, in accordance with the Paperwork Reduction Act of 1995 (PRA), 44 U.S.C. 3501 et seq. Public comments on the ICR are invited.

DATES: The OMB will consider all written comments that agency receives on or before July 30, 2015.

ADDRESSES: A copy of this ICR with applicable supporting documentation; including a description of the likely respondents, proposed frequency of response, and estimated total burden may be obtained free of charge from the RegInfo.gov Web site at http://www.reginfo.gov/public/do/PRAViewICR?ref_nbr=201504-1218-002 (this link will only become active on July 1, 2015) or by contacting Michel Smyth by telephone at 202-693-4129, TTY 202-693-8064, (these are not toll-free numbers) or by email at DOL_PRA_PUBLIC@dol.gov.

Submit comments about this request by mail or courier to the Office of Information and Regulatory Affairs, Attn: OMB Desk Officer for DOL-OSHA, Office of Management and Budget, Room 10235, 725 17th Street NW., Washington, DC 20503; by Fax: 202-395-5806 (this is not a toll-free number); or by email: OIRA_submission@omb.eop.gov. Commenters are encouraged, but not required, to send a courtesy copy of any comments by mail or courier to the U.S. Department of Labor-OASAM, Office of the Chief Information Officer, Attn: Departmental Information Compliance Management Program, Room N1301, 200 Constitution Avenue NW., Washington, DC 20210; or by email: DOL_PRA_PUBLIC@dol.gov.

FOR FURTHER INFORMATION CONTACT: Michel Smyth by telephone at 202-693-4129, TTY 202-693-8064, (these are not toll-free numbers) or by email at DOL_PRA_PUBLIC@dol.gov.

Authority: 44 U.S.C. 3507(a)(1)(D).

SUPPLEMENTARY INFORMATION: This ICR seeks to extend PRA authority for the Permit-Required Confined Spaces in General Industry Standard information collection requirements codified in regulations 29 CFR 1910.146. The purpose of the information collection is to ensure an Occupational Safety and Health Act (OSH Act) covered employer subject to the Standard systematically evaluates the dangers in permit spaces before entry is attempted and takes adequate measures to make the spaces safe for entry. The major information collection requirements in this Standard require the employer to: Post danger signs; develop and implement a written permit-space program; verify the space is safe for entry with a written certification; exchange information with employees, authorized entrants, attendants, contractors, and rescue services or teams; document the completion of measures the Standard requires by preparing an entry permit; make the completed permit available at the time of entry to all authorized entrants by posting the permit at the entry portal or by any other equally effective means; retain each canceled entry permit for at least one year; prepare training certification records; make the Safety Data Sheet (SDS) or written information available to the treating medical facility, if an injured entrant is exposed to a substance for which a SDS or other similar written information is required to be kept at the worksite; consult with affected employees and their authorized representatives on the development and implementation of all aspects of the permit space program; and make records developed under standard, including the results of any testing, available for inspection by employees and their authorized representatives. OSH Act sections 2(b)(9), 6, and 8(c) authorize this information collection. See 29 U.S.C. 651(b)(9), 655, and 657(c).

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6. The DOL obtains OMB approval for this information collection under Control Number 1218-0203.

OMB authorization for an ICR cannot be for more than three (3) years without renewal, and the current approval for this collection is scheduled to expire on June 30, 2015. The DOL seeks to extend PRA authorization for this information collection for three (3) more years, without any change to existing requirements. The DOL notes that existing information collection requirements submitted to the OMB receive a month-to-month extension while they undergo review. For additional substantive information about this ICR, see the related notice published in the Federal Register on April 27, 2015 (80 FR 23297).

Interested parties are encouraged to send comments to the OMB, Office of Information and Regulatory Affairs at the address shown in the ADDRESSES section by July 30, 2015. In order to help ensure appropriate consideration, comments should mention OMB Control Number 1218-0203. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-OSHA.

Title of Collection: Permit-Required Confined Spaces in General Industry Standard.

OMB Control Number: 1218-0203.

Affected Public: Private Sector—businesses or other for-profits.

Total Estimated Number of Respondents: 205,548.

Total Estimated Number of Responses: 8,681,215.

Total Estimated Annual Time Burden: 1,573,813 hours.

Total Estimated Annual Other Costs Burden: $0.

Dated: June 24, 2015.
Michel Smyth,
Departmental Clearance Officer.

[FR Doc. 2015-16005 Filed 6-29-15; 8:45 am]

BILLING CODE 4510-26-P